FEDERAL RESERVE SYSTEM

12 CFR Part 229

[Regulation CC; Docket No. R-1150]

Availability of Funds and Collection of Checks; Correction

AGENCY: Board of Governors of the Federal Reserve System.

ACTION: Final rule; correction.

SUMMARY: The Board of Governors is correcting the supplementary information that it provided in connection with a final rule updating the routing numbers for Federal Reserve Banks and Federal Home Loan Banks, which was published in the Federal Register of May 28, 2003.

DATES: The final rule is effective July 28, 2003.

FOR FURTHER INFORMATION CONTACT: Adrianne G. Threatt, Counsel, 202-452-3554, Legal Division. For users of Telecommunications Device for the Deaf (TDD) only, contact 202-263-4869.

SUPPLEMENTARY INFORMATION: The Board published a final rule in the Federal Register of May 28, 2003, that amended the Federal Reserve Bank and Federal Home Loan Bank routing information listed in appendix A of Regulation CC, effective July 28, 2003. The supplementary information for this final rule also included detailed information about an upcoming series of amendments to appendix A that will reflect the transfer of check processing activities within the Federal Reserve system. The Board specifically described which routing symbols in appendix A would be affected by the upcoming restructuring, indicating both the current office to which each affected routing symbol is assigned and the office to which it will be assigned after the restructuring. Inadvertently, the Board omitted from this supplementary information two routing symbols that will be transferred from the Richmond head office to the Baltimore branch. This document corrects the error by adding the two previously omitted routing symbols, 0514 and 2514, to the Baltimore branch routing symbol list in the supplementary information.

In the final rule, FR Doc. 03-13030 (68 FR 31592 (May 28, 2003)), make the following corrections in the SUPPLEMENTARY INFORMATION section. On page 31595, in the first column, replace routing symbol list 3. with the following:

3. Baltimore.

The operations of the Richmond head office will be transferred such that banks with the following Federal Reserve routing symbols will be local to the Baltimore branch:

0510 | 2510
0514 | 2514
0520 | 2520
0521 | 2521
0522 | 2522
0540 | 2540
0550 | 2550
0560 | 2560
0570 | 2570

By order of the Board of Governors of the Federal Reserve System, June 19, 2003.
Jennifer J. Johnson,
Secretary of the Board.

[FR Doc. 03-16051 Filed 6-25-03; 8:45 am]

BILLING CODE 6210-01-P